DEPARTMENT OF AGRICULTURE

Forest Service

Gauley Ranger District, Monongahela National Forest, WV; Lower Williams Vegetation Project EIS

ACTION: Notice of intent to prepare an environmental impact statement.

SUMMARY: The Forest Service, Monongahela National Forest, Gauley Ranger District, intends to prepare a draft environmental impact statement to disclose the environmental consequences of timber harvest, road construction, wildlife habitat improvement, and associated activities in the Lower Williams area of Webster County, WV to move this area towards the desired condition.

DATES: Comments and suggestions concerning the scope of the analysis should be submitted (postmarked) by December 4, 2006 to ensure timely consideration. The draft environmental impact statement is expected to be available May 2007 and the final environmental impact statement is expected to be September 2007.

ADDRESSES: Send written comments to O'Dell Tucker, ID Team Leader, Lower Williams Project, 932 North Fork Cherry RD., Richwood, WV 26261. Send electronic comments to comments-eastern-monongahela-gauley@fs.fed.us (please note: when commenting by e-mail be sure to list Lower Williams Vegetation Project EIS in the subject line and include a U.S. Postal Service address so we may add you to our mailing list). See SUPPLEMENTARY INFORMATION section for information on how to send electronic comments. For further information, mail correspondence to O'Dell Tucker at the address above.

FOR FURTHER INFORMATION CONTACT: O'Dell E. Tucker, project team leader, see the address above under ADDRESSES. Copies of documents may be requested at the same address. The scoping letter and maps for the Lower Williams EIS are posted on the MNF Web site: http://www.fs.fed.us/r9/monongahela.

SUPPLEMENTARY INFORMATION: The Monongahela National Forest Land and Resource Management Plan (Forest Plan) sets site-specific goals for the management of forest resources. The National Forest System Land within the Lower Williams Project Area is in Management Prescription (MP) 3.0, which emphasizes age class diversity and sustainable timber production, habitat for wildlife species tolerant of disturbances, such as deer, grouse, and squirrel, a variety of forest scenery, and primary motorized recreation environment.

The Forest Service is proposing actions that would move the Lower Williams Project Area from the existing condition towards the Desired Future Condition (DFC) and would maintain the DFC in situations where it has been attained. The DFC is described in the 2006 Monongahela National Forest Land and Resource Management Plan (Forest Plan).

Purpose and Need for Action

The purpose and need for action in the Lower Williams Project is to: (1) Create early successional forest habitat and permanent openings within the area to improve habitat for species such as grouse, deer, and squirrel; (2) reduce the amount of competition between trees for light and water resources in dense, over-crowded stands to provide for sustainable timber and mast production; and (3) regenerate shade-intolerant tree species and diversity forest age classes to improve the long-term sustainability of timber and increase the quality and growth rate of crop trees and mast producing trees.

Proposed Action

Proposed activities to meet the desired condition fall into three main categories. (1) Timber harvest and reforestation treatments consist of: Regeneration harvest, commercial thinning, shelterwood harvest, manual site preparation and release, herbicide application, planting and tubing of American Chestnut and Butternut. (2) Wildlife habitat improvement treatments consist of: Savannah construction, water hole construction, opening maintenance, and herbicide use. (3) Transportation treatments consist of: Road reconditioning, road construction, and road reconstructioning.

Responsible Official: This decision will be subject to appeal under 36 CFR 215. The responsible official is James L. Lowe, Gauley Ranger District, 932 North Fork Cherry RD., Richwood, PA 26261.

Nature of Decision To Be Made

The decision to be made is whether to implement the proposed action, an alternative to the proposed action, or to defer activities related to this project. If an action alternative is selected, the deciding official will decide what, if any, mitigation measures are included and if a Forest Plan is required.

Scoping Process: This notice of intent initiates the scoping process, which guides the development of the environmental impact statement. The scoping process will begin the day following the publication of this notice of intent in the Federal Register.

Preliminary Issues: Preliminary issues were identified based on internal review of the project area, issues developed for similar projects, and site-specific concerns raised by the resource specialists. The resource concerns within the project area are impacts to water quality, soils, and aquatic wildlife.

Comments Requested: Your comments will help the Forest Service refine and enhance the list of issues that are considered when analyzing alternatives to the proposed action.

Review: When this analysis is nearly complete, the Draft EIS will be filed with the Environmental Protection Agency and become available for public review (expected by May 2007). At that time the Environmental Protection Agency will publish a Notice of Availability of the document in the Federal Register (this will begin the 45-day comment period on the Draft EIS). After the comment period ends on the Draft EIS, the comments will be analyzed and considered by the Forest Service in preparing the final environmental impact statement. The Final EIS and Record of Decision are scheduled for release in September 2007.

Comments received, including names and addresses of those who comment, will be considered part of the public record and may be subject to public disclosure. Any person may request the Agency to withhold a submission from the public record by showing how the Freedom of Information Act (FOIA) permits such confidentiality.

The Forest Service believes it is important to give reviewers notice at this early stage of several court rulings related to public participation in the environmental review process. First, reviewers of draft environmental impact statements must structure their participation in the environmental review of the proposal so that it is meaningful and alerts an agency to the reviewer's position and contentions (Vermont Yankee Nuclear Power Corp. v. NRDC, 435 U.S. 519 553 [1978]). Also, environmental objections that could be raised at the draft environmental impact statement stage but that are not raised until after completion of the final environmental impact statement stage may be waived or dismissed by the courts (City of Angoon v. Hodel, 803 F.2nd 1016, 1022 [9th Cir. 1986] and Wisconsin Heritages, Inc. v. Harris, 490 F. Supp. 1334, 1338 [E.D. Wis. 1980]).

Because of the above rulings, it is very important that those interested in this proposed action participate by the close of the 45-day comment period so that substantive comments are made available to the Forest Service at a time when they can be meaningfully considered and responded to in the final environmental impact statement. Comments on the draft environmental impact statement should be as specific as possible. It is also helpful if comments refer to specific pages, sections, or chapters of the draft statement. Comments may also address the adequacy of the draft environmental impact statement or the merits of the alternatives formulated and discussed in the statement. Reviewers may wish to refer to Council on Environmental Quality Regulations for implementing the procedural provisions of the National Environmental Policy Act at 40 CFR 1503.3 in addressing these points.

Dated: October 26, 2006.
James L. Lowe,
District Ranger.

[FR Doc. E6-18498 Filed 11-2-06; 8:45 am]

BILLING CODE 3410-11-P